DEPARTMENT OF ENERGY

Federal Energy Regulatory Commission

[Docket No. RP00ndash;370-000]

Northern Natural Gas Company; Notice of Proposed Changes in FERC Gas Tariff

July 7, 2000.

Take notice that on June 30, 2000, Northern Natural Gas Company (Northern), tendered for filing in its FERC Gas tariff, Fifth Revised Volume No. 1, the following tariff sheets proposed to be effective June 30, 2000:

Second Revised Sheet No. 104

Third Revised Sheet No. 119

First Revised Sheet No. 120

Fourth Revised Sheet No. 142

Second Revised Sheet No. 297

Fourth Revised Sheet No. 299

Third Revised Sheet No. 229A

Northern states that the purpose of this filing is to comply with Order No. 637 issued on February 9, 2000 and Order No. 637A issued on May 19, 2000. Northern is filing revised tariff sheets to modify its rights of first Refusal (ROFR) provisions.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims/htm (call 202-208-2222 for assistance).

David P. Boergers,
Secretary.

[FR Doc. 00-17706 Filed 7-12-00; 8:45 am]

BILLING CODE 6717-01-M